DEPARTMENT OF LABOR

Agency Information Collection Activities; Submission for OMB Review; Annual Refiling Survey

ACTION: Notice of availability; request for comments.

SUMMARY: The Department of Labor (DOL) is submitting this Bureau of Labor Statistics (BLS)-sponsored information collection request (ICR) to the Office of Management and Budget (OMB) for review and approval in accordance with the Paperwork Reduction Act of 1995 (PRA). Public comments on the ICR are invited.

DATES: The OMB will consider all written comments that the agency receives on or before April 15, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Nicole Bouchet by telephone at 202-693-0213, or by email at DOL_PRA_PUBLIC@dol.gov.

SUPPLEMENTARY INFORMATION: The Annual Refiling Survey (ARS) is used in conjunction with the Unemployment Insurance tax reporting system in each State. The primary purpose of the ARS is to verify or to correct the North American Industry Classification System code assigned to establishments as well as to obtain accurate mailing and physical location addresses of establishments. As a result, changes in the industrial and geographical compositions of the economy are captured in a timely manner and reflected in the BLS statistical programs. Federal, State, and local government officials as well as private researchers depend on accurate geographical and industrial coding based on the 2017 North American Industry Classification System Manual. BLS routinely shares NAICS codes with the Census Bureau to improve consistency, reduce costs and burden, and improve the accuracy of their products. For additional substantive information about this ICR, see the related notice published in the Federal Register on December 14, 2023 (88 FRN 86681).

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

Agency: DOL-BLS.

Title of Collection: Annual Refiling Survey.

OMB Control Number: 1220-0032.

Affected Public: Private Sector; Not-for-profit institutions Farms, Businesses or other for-profits.

Total Estimated Number of Respondents: 773,650.

Total Estimated Number of Responses: 773,650.

Total Estimated Annual Time Burden: 74,023 hours.

Total Estimated Annual Other Costs Burden: $0.

(Authority: 44 U.S.C. 3507(a)(1)(D))

Nicole Bouchet,
Senior Paperwork Reduction Act Analyst.

[FR Doc. 2024-05360 Filed 3-13-24; 8:45 am]

BILLING CODE 4510-24-P